DEPARTMENT OF ENERGY

Federal Energy Regulatory Commission

Combined Notice of Filings #1

Take notice that the Commission received the following electric corporate filings:

Docket Numbers: EC13-18-000.

Applicants: Palouse Wind, LLC.

Description: Application for Authorization Under Section 203 of the Federal Power Act and Request for Waivers, Confidential Treatment, Shortened Comment Period and Expedited Action of Palouse Wind, LLC.

Filed Date: 10/19/12.

Accession Number: 20121019-5196.

Comments Due: 5 p.m. ET 11/9/12.

Take notice that the Commission received the following electric rate filings:

Docket Numbers: ER13-20-001.

Applicants: C.N. Brown Electricity, LLC.

Description: Amended MBR Application to be effective 11/1/2012.

Filed Date: 10/22/12.

Accession Number: 20121022-5048.

Comments Due: 5 p.m. ET 11/13/12.

Docket Numbers: ER13-162-000.

Applicants: Arizona Public Service Company.

Description: Arizona Public Service Company submits cancellation of Service Schedule M, part of Rate Schedule No. 3.

Filed Date: 10/19/12.

Accession Number: 20121019-5198.

Comments Due: 5 p.m. ET 11/9/12.

Docket Numbers: ER13-163-000.

Applicants: Fountain Valley Power, L.L.C.

Description: Rate Schedule for Emergency Power to be effective 9/1/2012.

Filed Date: 10/22/12.

Accession Number: 20121022-5058.

Comments Due: 5 p.m. ET 11/13/12.

Docket Numbers: ER13-164-000.

Applicants: Midwest Independent Transmission System Operator, Inc.

Description: SA 1268 METC-Triton Letter Agreement to be effective 10/23/2012.

Filed Date: 10/22/12.

Accession Number: 20121022-5059.

Comments Due: 5 p.m. ET 11/13/12.

Docket Numbers: ER13-165-000.

Applicants: Southern California Edison Company.

Description: Letter Agreement SCE Mojave Solar 4 Project to be effective 10/10/2012.

Filed Date: 10/22/12.

Accession Number: 20121022-5067.

Comments Due: 5 p.m. ET 11/13/12.

Docket Numbers: ER13-166-000.

Applicants: New York Independent System Operator, Inc.

Description: NYISO Proposed Tariff Revisions re: Minimum Oil Burn Program to be effective 12/21/2012.

Filed Date: 10/22/12.

Accession Number: 20121022-5075.

Comments Due: 5 p.m. ET 11/13/12.

Take notice that the Commission received the following electric securities filings:

Docket Numbers: ES13-2-000.

Applicants: Maine Public Service Company.

Description: Application of Maine Public Service Company Under Section 204 of the FPA for Authority to Extend Revolving Credit Facility.

Filed Date: 10/19/12.

Accession Number: 20121019-5199.

Comments Due: 5 p.m. ET 11/9/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2012.
Nathaniel J. Davis, Sr.,
Deputy Secretary.

[FR Doc. 2012-26719 Filed 10-29-12; 8:45 am]

BILLING CODE 6717-01-P